DEPARTMENT OF STATE

[Public Notice: 10163]

Notice of Availability of the Draft Environmental Assessment and Preliminary Finding of No Significant Impact for the Borrego Pipeline Presidential Permit Application Review, Webb County, Texas

AGENCY: Department of State.

ACTION: Notice of availability; solicitation of comments.

SUMMARY: The U.S. Department of State (Department) announces availability for public review and comment of the Draft Environmental Assessment (Draft EA) and the Preliminary Finding of No Significant Impact for the Borrego Pipeline Presidential Permit Application (Preliminary FONSI). These documents evaluate the potential environmental impacts of the construction, connection, operation, and maintenance of a proposed new pipeline at the U.S.- Mexico border in Webb County, Texas, by Borrego Crossing Pipeline, LLC (Borrego), a subsidiary of Howard Midstream Energy Partners, LLC (Howard Midstream).

DATES: The public comment period starts on October 13, 2017, and will end November 13, 2017.

ADDRESSES: Comments on the Draft EA and Preliminary FONSI may be submitted at www.regulations.gov by entering [DOS-2017-0039] or the title of this Notice into the search field and following the prompts. Comments may also be submitted by mail, addressed to: Jill Reilly, Office of Environmental Quality and Transboundary Issues (OES/EQT): Suite 2726, U.S. Department of State, 2201 C Street NW., Washington, DC 20520. All comments from agencies or organizations should indicate a contact person for the agency or organization.

The Department invites the public, governmental agencies, tribal governments, and all other interested parties to provide comments on the Draft EA and Preliminary FONSI during the 30-day public comment period. All comments received during the review period may be made public, no matter how initially submitted. Comments are not private and will not be edited to remove identifying or contact information. Commenters are cautioned against including any information that they would not want publicly disclosed.

Any party soliciting or aggregating comments from other persons is further requested to direct those persons not to include any identifying or contact information, or information they would not want publicly disclosed, in their comments.

FOR FURTHER INFORMATION CONTACT: Jill Reilly, (202) 647-9798, ReillyJE@state.gov. Project details for the Borrego Pipeline and copies of the Presidential permit application, as well as information on the Presidential permit process are available at the following: https://www.state.gov/e/enr/applicant/applicants/borregopipeline/index.htm. Please refer to this Web site or contact the Department at the address listed in the ADDRESSES section of this notice.

SUPPLEMENTARY INFORMATION: The Department reviews Presidential permit applications under Executive Order (E.O.) 13337 and E.O. 14432. E.O. 13337 delegates to the Secretary of State the President's authority to receive applications for permits for the construction, connection, operation, or maintenance of facilities for the exportation or importation of petroleum, petroleum products, coal, or other fuels (except for natural gas), at the borders of the United States, and to issue or deny such Presidential permits upon a national interest determination.

On August 12, 2016, Borrego submitted an application to the Department. The application requests a new Presidential permit that would authorize the construction, connection, operation and maintenance of facilities at the United States-Mexico border (border facilities) for the export to Mexico of refined petroleum products (including gasoline, premium gasoline, ultra-low sulfur diesel [ULSD] and jet fuels). The petroleum products would be transported through the new pipeline between a terminal in Laredo, Texas, and the existing Nuevo Laredo Terminal in Tamaulipas, Mexico.

The Draft EA and Preliminary FONSI were prepared consistent with the National Environmental Policy Act (NEPA) of 1969 (42 U.S.C. Section 4321, et seq.), the regulations of the Council on Environmental Quality (CEQ) (40 CFR part 1500-1508), and the Department's implementing regulations (22 CFR part 161).

Availability of the Draft EA and Preliminary FONSI: Copies of the Draft EA and Preliminary FONSI have been distributed to state and Federal agencies, tribal governments and other interested parties. Printed copies of the document may be obtained by visiting the Main Laredo Public Library, 1120 E. Calton Road, Laredo, Texas, 78041, or by contacting the Borrego Project Manager at the above address. They are also available at https://www.state.gov/e/enr/applicant/applicants/borregopipeline/index.htm.

Sezaneh Seymour,
Acting Director, Office of Environmental Quality and Transboundary Issues, Department of State.

[FR Doc. 2017-22411 Filed 10-13-17; 8:45 am]

BILLING CODE 4710-09-P